DEPARTMENT OF THE INTERIOR

Fish and Wildlife Service

[FWS-R9-IA-2010-N263; 96300-1671-0000-P5]

Information Collection Sent To the Office of Management and Budget (OMB) for Approval; OMB Control Number 1018-0093; Federal Fish and Wildlife Permit Applications and Reports—Management Authority

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This ICR is scheduled to expire on November 30, 2010. We may not conduct or sponsor and a person is not required to respond to a collection of information unless it displays a currently valid OMB control number. However, under OMB regulations, we may continue to conduct or sponsor this information collection while it is pending at OMB.

DATES: You must submit comments on or before December 29, 2010.

ADDRESSES: Send your comments and suggestions on this information collection to the Desk Officer for the Department of the Interior at OMB-OIRA at (202) 395-5806 (fax) or OIRA_DOCKET@OMB.eop.gov (e-mail). Please provide a copy of your comments to the Service Information Collection Clearance Officer, U.S. Fish and Wildlife Service, MS 222-ARLSQ, 4401 North Fairfax Drive, Arlington, VA 22203 (mail), or infocol@fws.gov (e-mail).

FOR FURTHER INFORMATION CONTACT: To request additional information about this ICR, contact Hope Grey at the addresses above or by telephone at (703) 358-2482. You may review the ICR online at http://www.reginfo.gov. Follow the instructions to review Department of the Interior collections under review by OMB.

SUPPLEMENTARY INFORMATION: OMB Control Number: 1018-0093.

Title: Federal Fish and Wildlife Permit Applications and Reports— Management Authority, 50 CFR 13, 15, 16, 17, 18, 21, and 23.

Service Form Number(s): 3-200-19 through 3-200-37, 3-200-39 through 3-200-44, 3-200-46 through 3-200-53, 3-200-58, 3-200-61, 3-200-64 through 3-200-66, 3-200-69 to 3-200-70, 3-200-73 through 3-200-76, 3-200-80, and 3-200-85 through 3-200-87.

Type of Request: Revision of currently approved collection.

Description of Respondents: Individuals; biomedical companies; circuses; zoological parks; botanical gardens; nurseries; museums; universities; antique dealers; exotic pet industry; hunters; taxidermists; commercial importers/exporters of wildlife and plants; freight forwarders/brokers; and State, Tribal, local, and Federal governments.

Respondent's Obligation: Required to obtain or retain a benefit.

Frequency of Collection: On occasion.

Estimated Annual Number of Respondents: 10,314.

Estimated Annual Number of Responses: 13,055.

Estimated Completion Time per Response: Varies from 6 minutes to 85 hours depending on activity.

Estimated Annual Number of Burden Hours: 9,525.

Estimated Nonhour Cost Burden: $982,751 associated with application fees.

Abstract: This information collection covers permit applications and reports that our Division of Management Authority uses to determine the eligibility of applicants for permits requested in accordance with the criteria in various Federal wildlife conservation laws and international treaties, including:

• Endangered Species Act (16 U.S.C. 1531 et seq.).

• Migratory Bird Treaty Act (16 U.S.C. 703 et seq.).

• Lacey Act (16 U.S.C. 3371 et seq.).

• Bald and Golden Eagle Protection Act (16 U.S.C. 668).

• Convention on International Trade in Endangered Species of Wild Fauna and Flora (CITES) (27 U.S.T. 1087).

• Marine Mammal Protection Act (16 U.S.C. 1361-1407 et seq.).

• Wild Bird Conservation Act (16 U.S.C. 4901-4916 et seq.).

Service regulations implementing these statutes and treaties are in Chapter I, Subchapter B of Title 50, Code of Federal Regulations (CFR). These regulations stipulate general and specific requirements that when met allow us to issue permits to authorize activities that are otherwise prohibited.

In addition to the forms and reports currently approved under OMB Control No. 1018-0093, this revised ICR includes:

• FWS Forms 3-200-74 (Single-Use Export Permits Under a Master File or Annual Program File) and 3-200-75 (Registration of a Production Facility for Export of Certain Native Species). These forms are currently approved under OMB Control Number 1018-0137. If OMB approves this ICR, we will discontinue 1018-0137.

• Four new forms that we believe will reduce burden on applicants, improve customer service, and allow us to process applications and issue CITES documents quickly:

(1) FWS Form 3-200-80 (Export of Fertilized Live Eggs, Caviar, or Meat from Aquacultured Paddlefish or Sturgeon (CITES)). Applicants currently use FWS Form 3-200-24 or 3-200-76 for this activity.

(2) FWS Form 3-200-85 (Master File for the Export of Live Captive-bred Animals (CITES)). Applicants currently use FWS Form 3-200-24 for this activity.

(3) FWS Form 3-200-86 (Photography of Marine Mammals for Educational or Commercial Purposes (MMPA)). Applicants currently use FWS Form 3-200-43 for this activity.

(4) FWS Form 3-200-87 (Transfer of Live Captive-held Marine Mammals (MMPA)). Applicants currently submit letters for notification or authorization.

Comments: On August 31, 2010, we published in the Federal Register (75 FR 53328) a notice of our intent to request that OMB approve this information collection. In that notice, we solicited comments for 60 days, ending on November 1, 2010. We received one comment. The comment did not address issues surrounding the proposed collection of information or the cost and hour burden estimates, but did object to other aspects of our permitting program and the killing of wildlife. We have not made any changes to this collection as a result of the comment. The commenter did question the groups that we included under the heading “Affected Public” in our previous Federal Register notice and stated that the entire U.S. public and animal protection groups are affected by this information collection. The groups listed under this heading were potential respondents. To ensure clarity, we have changed the heading title to “Description of Respondents.”

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 22, 2010.
Hope Grey,
Information Collection Clearance Officer, Fish and Wildlife Service.

[FR Doc. 2010-29980 Filed 11-26-10; 8:45 am]

BILLING CODE 4310-55-P